SECURITIES AND EXCHANGE COMMISSION

[Release No. 34-43298; File No. SR-ISE-00-06]

Self-Regulatory Organizations; Notice of Filing and Immediate Effectiveness of Proposed Rule Change by the International Securities Exchange LLC, Relating to Equipment Rental Fees and Annual Access Fee

September 15, 2000.

Pursuant to section 19(b)(1) of the Securities Exchange Act of 1934 (“Act”) ¹ and Rule 19b-4 thereunder,² notice is hereby given that on August 3, 2000, the International Securities Exchange LLC (“ISE” or “Exchange”) filed with the Securities and Exchange Commission (“Commission”) the proposed rule change as described in Items I, II, and III below, which Items have been prepared by the Exchange. The Commission is publishing this notice to solicit comments on the proposed rule change from interested persons.

¹ 15 U.S.C. 78s(b)(1).

² 17 CFR 240.19b-4.

I. Self-Regulatory Organization's Statement of the Terms of Substance of the Proposed Rule Change

The ISE proposes to adopt monthly rental fees for computer equipment that ISE supplies to its members. The ISE also is clarifying that it applies its existing annual access fee for competitive and primary market makers on a per membership basis.

II. Self-Regulatory Organization's Statement of the Purpose of, and Statutory Basis for, the Proposed Rule Change

In its filing with the Commission, the ISE included statements concerning the purpose of and basis for the proposed rule change and discussed any comments it received on the proposed rule change. The text of these statements may be examined at the places specified in Item IV below. The ISE has prepared summaries, set forth in Sections A, B, and C below, of the most significant aspects of such statements.

A. Self-Regulatory Organization's Statement of the Purpose of, and Statutory Basis for, the Proposed Rule Change

1. Purpose

The purpose of the rule change is to adopt a monthly rental fee for computer equipment ISE supplies to members that enables members to communicate with the Exchange. The Exchange is adopting a monthly fee of $1,400 for members that receive a cabinet (consisting of various components) and $200 for members that only receive a router from the Exchange. These fees will be used to cover the costs of the equipment to the Exchange.

The ISE also is clarifying that the annual access fee for primary and competitive market makers currently contained in its fee schedule is applied on a per-membership basis. In the case where a single member firm has multiple ISE memberships, the annual access fee is charged for each membership. For example, if a single member firm is both an electronic access member and a competitive market maker, the firm is subject to the annual access fee for both memberships. Also, if a firm owns multiple market maker memberships, it is subject to an annual access fee for each of those memberships.

2. Statutory Basis

The ISE believes that the proposed rule change is consistent with section 6(b) of the Act,³ in general, and furthers the objectives of section 6(b)(4) of the Act,⁴ in particular, in that it is designed to provide for the equitable allocation of reasonable dues, fees, and other charges among ISE members and other persons using its facilities.

³ 15 U.S.C. 78f(b).

⁴ 15 U.S.C. 78f(b)(4).

B. Self-Regulatory Organization's Statement on Burden on Competition

The Exchange does not believe that the proposed rule change will impose any burden on competition.

C. Self-Regulatory Organization's Statement on Comments on the Proposed Rule Change Received From Members, Participants, or Others

Written comments were neither solicited nor received.

III. Date of Effectiveness of the Proposed Rule Change and Timing for Commission Action

Because the foregoing rule change establishes or changes a due, fee, or other charge imposed by the Exchange, it has become effective pursuant to section 19(b)(3)(A)(ii) of the Act ⁵ and subparagraph (f)(2) of Rule 19b-4 thereunder.⁶ At any time within 60 days of the filing of the proposed rule change, the Commission may summarily abrogate such rule change if it appears to the Commission that such action is necessary or appropriate in the pubic interest, for the protection of investors, or otherwise in furtherance of the purposes of the Act.

⁵ 15 U.S.C. 78s(b)(3)(A)(ii).

⁶ 17 CFR 240.19b-4(f)(2). At the Exchange's request, the inadvertent citation to paragraph (e) of Rule 19b-4 in the filing originally received by the Commission on August 3, 2000, has been changed to the correct citation—paragraph (f)(2). Telephone conversation between Katherine Simmons, Vice President and Associate General Counsel, ISE, and Geoffrey Pemble, Attorney, Division of Market Regulation, Commission, on September 15, 2000.

IV. Solicitation of Comments

Interested persons are invited to submit written data, views, and arguments concerning the foregoing, including whether the proposed rule change is consistent with the Act. Persons making written submissions should file six copies thereof with the Secretary, Securities and Exchange Commission, 450 Fifth Street, NW., Washington, DC 20549-0609. Copies of the submission, all subsequent amendments, all written statements with respect to the proposed rule change that are filed with the Commission, and all written communications relating to the proposed rule change between the Commission and any person, other than those that may be withheld from the public in accordance with the provisions of 5 U.S.C. 552, will be available for inspection and copying at the Commission's Public Reference Room. Copies of such filing will also be available for inspection and copying at the principal office of the Exchange. All submissions should refer to the File No. SR-ISE-00-06 and should be submitted by October 13, 2000.

For the Commission, by the Division of Market Regulation, pursuant to delegated authority.⁷
⁷ 240 CFR 200.30-3(a)(12).
Margaret H. McFarland,
Deputy Secretary.

[FR Doc. 00-24351 Filed 9-21-00; 8:45 am]

BILLING CODE 8010-01-M